DEPARTMENT OF STATE

[Public Notice 4080]

Shipping Coordinating Committee, Subcommittee for the Prevention of Marine Pollution; Notice of Meeting

The Shipping Coordinating Committee, Subcommittee for the Prevention of Marine Pollution, will conduct an open meeting at 9:30 a.m. on Thursday, September 26, 2002, in Room 2415 at the U.S. Coast Guard Headquarters Building, 2100 Second Street, SW., Washington, DC 20593.

The purpose of this meeting will be to review the agenda items to be considered at the forty-eighth Session of the International Maritime Organization (IMO) Marine Environment Protection Committee (MEPC 48) to be held at the IMO Headquarters in London from 7 through 11 October 2002. Proposed U.S. positions on the agenda items for MEPC 48 will be discussed.

The primary matters to be considered include:

a. Harmful aquatic organisms in ballast water;

b. Recycling of ships;

c. Prevention of air pollution from ships;

d. Consideration and adoption of amendments to mandatory instruments;

e. Implementation of the International Convention on Oil Pollution Preparedness, Response and Co-operation (OPRC) and the OPRC-Hazardous Noxious Substances Protocol (OPRC-HNS) and relevant conference resolutions;

f. Identification and protection of Special Areas and Particularly Sensitive Sea Areas;

g. Inadequacy of reception facilities;

h. Promotion of implementation and enforcement of the International Convention on the Prevention of Pollution from Ships, 1973, as modified by the Protocol of 1978 relating thereto (MARPOL 73/78) and related Codes;

i. Technical co-operation program;

j. Interpretation and amendments of MARPOL 73/78 and related Codes;

k. Harmful effects of the use of anti-fouling paints for ships; Future role of formal safety assessment and human element issues;

l. Future role of formal safety assessment and human element issues; and

m. Work program of the Committee and subsidiary bodies.

Please note that hard copies of documents associated with MEPC 48 will not be available at this meeting. Documents will be available in Adobe Acrobat format on CD-ROM on the day of the meeting. To request documents prior to the meeting date, please write to the address or place a request for the documents via the web link provided below.

Members of the public may attend the meeting up to the seating capacity of the room. For further information, or to submit views in advance of the meeting, please contact Lieutenant Commander David Beck, U.S. Coast Guard, Environmental Standards Division (G-MSO-4), 2100 Second Street, SW., Washington, DC 20593-0001; telephone (202) 267-0713; fax (202) 267-4690, e-mail dbeck@comdt.uscg.mil; or on-line at: http://www.uscg.mil/hq/g-m/mso/mso4/mepc.html.

Dated: August 8, 2002.
Stephen Miller,
Executive Secretary, Shipping Coordinating Committee, Department of State.

[FR Doc. 02-21170 Filed 8-19-02; 8:45 am]

BILLING CODE 4710-07-U